DEPARTMENT OF LABOR

Office of the Secretary

Submission for OMB Emergency Review; Comment Request

June 14, 2000.

The Department of Labor has submitted the following (see below) information collection request (ICR), utilizing emergency review procedures, to the Office of Management and Budget (OMB) for review and clearance in accordance with the Paperwork Reduction Act of 1995 (Pub. L. 104-13, 44 U.S.C. Chapter 35). OMB approval has been requested by June 30, 2000. A copy of this ICR, with applicable supporting documentation, my be obtained by calling the Department of Labor Clearance Officer, Ira Mills on (202) 219-5905.

Comments and questions about the ICR listed below should be submitted to the Office of Information and Regulatory Affairs, Attn: OMB Desk Officer for the Bureau of Labor Statistics, Office of Management and Budget, Room 10235, Washington, D.C. 20503 (202) 395-7316), and received on or before Monday, June 26, 2000. The Office of Management and Budget is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarify of the information to be collected; and

• Minimize the burden of the collection of information on those who are to respond, including through the use of appropriate automated, electronic, mechanical, or other technological collection techniques or other forms of information technology, e.g., permitting electronic submissions of responses.

Agency: Department of Labor, Veterans' Employment and Training Service.

Title: Federal Contractor Veterans' Employment Report VETS-100.

OMB Number: 1293-0005.

Frequency: Annually.

Affected Public: Business or other for-profit; not for-profit institutions.

Number of Respondents: 194,580.

Estimated Time Per Respondent: 30 minutes.

Total Burden Hours: 97,290.

Total Burden Cost: $0.

Description: The Federal Contractor Veterans' Employment Report VETS-100, administered by the U.S. Department of labor, is used to facilitate Federal contractor and subcontractor reporting of their employment and new hiring activity. Title 38 U.S.C. Section 4212 (d) requires the collection of information from entities holding contracts of $25,000 or more with Federal departments or agencies to report annually on (a) the number of current employees in each job category and at each hiring location who are special disabled veterans, the number who are veterans of the Vietnam era and the number who are other veterans who served on active duty during a war or a campaign or expedition for which a campaign badge has been authorized; (b) the total number of employees hired during the report period and of those, the number of special disabled, the number who are veterans of the Vietnam era, and the number who are other veterans; and the maximum and minimum number of employees employed by the contractor at each hiring location.

Ira L. Mills,
Departmental Clearance Office.

[FR Doc. 00-15795 Filed 6-21-00; 8:45 am]

BILLING CODE 4510-79-M